DEPARTMENT OF EDUCATION

Office of Special Education and Rehabilitative Services Overview Information; Personnel Development To Improve Services and Results for Children With Disabilities—Combined Priority for Personnel Preparation; Notice Inviting Applications for New Awards for Fiscal Year (FY) 2007

Catalog of Federal Domestic Assistance (CFDA) Number:84.325K.

Note: This notice includes one absolute priority with four focus areas, and funding information for each focus area of the competition.

Dates: Applications Available: August 11, 2006.

Deadline for Transmittal of Applications: October 10, 2006.

Deadline for Intergovernmental Review: December 11, 2006.

Eligible Applicants: Institutions of higher education (IHEs).

Estimated Available Funds: The Administration has requested $90,626,000 for the Personnel Development to Improve Services and Results for Children with Disabilities program for FY 2007, of which we intend to use an estimated $11,692,000 for the Combined Priority for Personnel Preparation competition. The actual level of funding, if any, depends on final congressional action. However, we are inviting applications to allow enough time to complete the grant process if Congress appropriates funds for this program.

For funding information regarding each of the specific focus areas of the absolute priority, see the chart in the Award Information section of this notice.

Estimated Range of Awards: See chart.

Estimated Average Size of Awards: See chart.

Maximum Awards: See chart.

Estimated Number of Awards: See chart.

Project Period: Up to 48 months.

Full Text of Announcement

I. Funding Opportunity Description

Purpose of Program: The purposes of this program are to (1) Help address State-identified needs for highly qualified personnel—in special education, related services, early intervention, and regular education—to work with children with disabilities; and (2) ensure that those personnel have the skills and knowledge—derived from practices that have been determined through research and experience to be successful—that are needed to serve those children.

Priorities: In this competition, we are establishing one absolute priority (with four focus areas), a competitive preference priority within one of these four focus areas, one separate competitive preference priority, and two invitational priorities. In accordance with 34 CFR 75.105(b)(2)(v), these priorities are from allowable activities specified in the statute (see sections 662 and 681(d) of the Individuals with Disabilities Education Act (IDEA)).

Absolute Priority: For FY 2007 this priority is, except as otherwise specified, an absolute priority. Under 34 CFR 75.105(c)(3) we consider only applications that meet this priority.

This priority is:

Combined Priority for Personnel Preparation Background: State agencies, university training programs, local schools, and other community-based entities confirm the importance and difficulty of improving training programs for personnel to serve children with disabilities or infants and toddlers with disabilities.

The national demand for fully credentialed special education, related services and early intervention personnel to serve children with disabilities also exceeds available supply. Thus, Federal support is required to improve both the quality and supply of personnel who serve children with disabilities.

Priority: The purpose of this priority is to increase the number and quality of personnel who are fully credentialed to serve children with disabilities—especially in areas of chronic shortage—by supporting projects that prepare special education, early intervention, and related services personnel at the associate, baccalaureate, master's and specialist levels. In order to be eligible under this priority, programs must provide training and support for students to complete, within the term of the project, a degree, State certification, professional license, or State endorsement in early intervention, special education or related services. Programs preparing students to be special education paraprofessionals, related services assistants or educational interpreters are also eligible under this priority.

Combined Personnel Preparation Priority Requirements: To be considered for an award under this priority, applicants must—

(a) Demonstrate, in the narrative section of the application under “Quality of Project Services”, how—

(1) Training requirements and required coursework for the proposed training program incorporate research-based practices that improve outcomes for children with disabilities (including relevant research citations);

(2) The program is designed to offer integrated training and practice opportunities that will enhance the skills of appropriate personnel who share responsibility for providing effective services to children with disabilities;

(3) The program prepares personnel to address the specialized needs of children with disabilities from diverse cultural and language backgrounds, including limited English proficient children with disabilities, by—

(i) Identifying the skills that personnel need to work effectively with culturally and linguistically diverse populations; and

(ii) Preparing personnel to use those skills through early intervention, special education, and related services training programs;

(4) If preparing beginning special educators, the program is designed to provide extended clinical learning opportunities, field experiences, or supervised practica (such as an additional year) and ongoing high quality mentoring and induction opportunities;

(5) The program includes field-based training opportunities for scholars (as defined in 34 CFR 304.3(g)) in diverse settings including schools and settings in high-poverty communities, rural areas, and urban areas;

(6) The proposed training program will enable scholars to be highly qualified in accordance with section 602(10) of IDEA in the State(s) to be served by the applicant;

(7) The training program equips scholars with the knowledge and skills necessary to assist children effectively in achieving State learning standards; and

(8) The training program provides student support systems (including tutors, mentors, and other innovative practices) to enhance student retention and success in the program;

(b) Include in the narrative section of the application under “Quality of Project Evaluation”, a clear, effective plan for evaluating the extent to which graduates of the training program have the knowledge and skills necessary to provide scientifically based or evidence-based instruction and services that result in improved outcomes for children with disabilities. Applicants also must clearly describe under “Quality of Project Evaluation” how the project will report these evaluation results to the Office of Special Education Programs (OSEP) in the grantee's annual performance reports and final performance report;

(c) Meet the following statutory requirements of IDEA: (1) Demonstrate that the activities described in the application will address needs identified by the State or States the applicant proposes to serve, the impact of the proposed project in meeting the need for personnel identified by the State(s), and that the State or States intend to accept successful completion of the proposed personnel preparation program as meeting State personnel standards, including standards established to implement the IDEA requirement that all teachers be highly qualified, or other requirements in State law or regulations for serving children with disabilities or serving infants and toddlers with disabilities (see sections 662(e)(2)(A), 662(e)(3), and 662(f)(1) and (2) of IDEA). Letters from one or more States that the project proposes to serve could be one method for addressing these requirements.

(2) Demonstrate that the applicant will cooperate with one or more State educational agencies—or, if appropriate, State appointed lead agencies responsible for providing early intervention services—or local educational agencies in carrying out and monitoring the proposed project (see section 662(e)(2)(B) of IDEA).

(3) Demonstrate how the project involves individuals with disabilities or parents of individuals with disabilities ages birth through 26 in planning, implementing, and evaluating the project (see section 682(a)(1)(A) of IDEA).

(4) Ensure that individuals who receive financial assistance under the project agree to pay all or part of the amount of the scholarship, in accordance with section 662(h)(1) of IDEA and 34 CFR part 304. Applicants must describe how they will inform scholarship recipients of this service obligation requirement; and

(d) Meet the following additional requirements: (1) Assure that at least 60 percent of the total requested budget per year be used for student training stipends.

(2) Budget for a three-day Project Director's meeting in Washington, DC, during each year of the project.

(3) If the project maintains a Web site, include relevant information and documents in a form that meets a government or industry-recognized standard for accessibility.

(4) Include, in the application appendix, all course syllabi for the proposed training program. Course syllabi must clearly reflect the incorporation of research-based curriculum and pedagogy as required under paragraph (a) of this priority.

(5) Agree to submit electronically annual data on each scholar who receives grant support within 60 days after the end of each grant budget year. Applicants are encouraged to visit the Personnel Prep Data (PPD) Web site at http://www.osepppd.org for further information. This data collection is in addition to and does not supplant the annual grant performance report required of each grantee for continuation funding (see 34 CFR 75.590).

Focus Areas

Within this absolute priority, the Secretary intends to support projects under the following four focus areas: (a) Training Personnel to Serve Infants, Toddlers, and Pre-school Age Children with Disabilities, (b) Training Personnel to Serve School Age Children with Low Incidence Disabilities, (c) Training Personnel to Provide Related Services, Speech/Language Services, and Adapted Physical Education to Infants, Toddlers, Children and Youth with Disabilities, and (d) Training Personnel in Minority Institutions to Serve Infants, Toddlers, Children and Youth with Disabilities.

Note: Applicants must identify the specific focus area (i.e., (a), (b), (c), or (d), under which they are applying as part of the competition title on the application cover sheet (ED form 424, line 4). Applicants may not submit the same proposal under more than one focus area.

Focus Area a: Training Personnel to Serve Infants, Toddlers, and Pre-school Age Children with Disabilities. For the purpose of this focus area, early intervention personnel are those who are trained to provide services to infants and toddlers with disabilities ages birth through two, and early childhood personnel are those who are trained to provide services to children with disabilities ages three through five (in States where the age range is other than ages three through five, we will defer to the State's certification for early childhood). In States where certification in early intervention (EI) is combined with certification in early childhood (EC), applicants may propose a combined EI/EC training project under this focus area. Projects training related services, speech/language, or adapted physical education personnel are not eligible under this focus area (see Focus Area c).

Focus Area b: Training Personnel to Serve School Age Children with Low Incidence Disabilities. For the purpose of this focus area, low incidence personnel are special education personnel, including paraprofessionals, trained to serve school-age children with low incidence disabilities including visual impairments, hearing impairments, simultaneous vision and hearing impairments, significant cognitive impairments (severe mental retardation), orthopedic impairments, autism, and traumatic brain injury. Programs preparing special education personnel to provide services to visually impaired or blind children that can be appropriately provided in Braille must prepare those individuals to provide those services in Braille. Projects training educational interpreters are eligible under this focus area. Projects training other related services, speech/language or adapted physical education personnel are not eligible under this focus area (see Focus Area c). Projects training special education pre-school personnel are eligible under Focus Area a.

Focus Area c: Training Personnel to Provide Related Services, Speech/Language Services, and Adapted Physical Education to Infants, Toddlers, Children and Youth with Disabilities. Programs training related services, speech/language or adapted physical education personnel to serve infants, toddlers, children and youth with high-or low incidence disabilities are eligible within this focus area. For the purpose of this focus area, related services include, but are not limited to, psychological services, physical therapy, occupational therapy, therapeutic recreation, social work services, counseling services, audiology services (including personnel trained at the Doctor of Audiology level), and speech/language services. Training programs in States where personnel trained to serve children with speech/language impairments are considered to be special educators are eligible under this focus area. Projects training educational interpreters are not eligible under this focus area, but should apply under Focus Area b.

Focus Area d: Training Personnel in Minority Institutions to Serve Infants, Toddlers, Children and Youth with Disabilities. Programs in minority institutions that are training special education personnel, including adapted physical education and related services personnel, to serve infants, toddlers, children and youth with high- or low incidence disabilities are eligible within this focus area. Minority institutions include institutions with a minority student enrollment of 25 percent or more, which may include Historically Black Colleges and Universities, Tribal Colleges, and Predominantly Hispanic Serving Colleges and Universities. Within this focus area, institutions that are recommended for funding in FY 2007 and that have not received support under the IDEA Personnel Development Program in FY 2006 will receive 10 competitive preference points.

Under Focus Area d, a project may budget for less than the required percentage (60 percent) for student training support if the applicant can provide sufficient justification for any designation less than 60 percent for student scholarships. Sufficient justification for proposing less than 60 percent of the budget for student support would include support for activities such as program development, program expansion, or the addition of a new area of emphasis. Some examples include the following:

• A project that is starting a new program may request up to a year for program development and capacity building. In the initial project year, no student support would be required. Instead, a project could hire a new faculty member or a consultant to assist in program development.

• A project that is proposing to build capacity may hire a field supervisor so that additional students can be trained.

• A project that is expanding or adding a new emphasis area to the program may hire additional faculty or other resources such as expert consultants, additional training supplies, or equipment that would enhance the program.

Projects that are funded to develop, expand, or to add a new area of emphasis to special education or related services programs must provide information on how these new areas will be maintained once Federal funding ends.

Competitive Preference Priority: For FY 2007, this priority is a competitive preference priority. Under 34 CFR 75.105(c)(2)(i) we award up to an additional five points to an application depending on how well the application meets this priority.

This competitive preference priority is: Recruitment of Individuals with Disabilities and Individuals from Underrepresented Groups: We give competitive preference to IHEs based on the extent to which they successfully recruit individuals with disabilities and individuals from groups that are underrepresented in the profession for which they are preparing individuals. In the case of a new project, the applicant must submit a plan with strategies on how it will meet this competitive preference priority.

Note: The statute does not authorize the selection of trainees on the basis of race, ethnicity, gender, or disability status.

Invitational Priorities: For FY 2007 these priorities are invitational priorities. Under 34 CFR 75.105(c)(1) we do not give an application that meets these invitational priorities a competitive or absolute preference over other applications.

These priorities are:

(1) In Focus Areas b and d, the Secretary is particularly interested in programs that prepare special educators who provide instruction in core academic areas to children with disabilities.

(2) The Secretary is also particularly interested in programs that provide enhanced support for beginning special educators (see section 662(b)(3) of IDEA).

Waiver of Proposed Rulemaking: Under the Administrative Procedure Act (APA) (5 U.S.C. 553), the Department generally offers interested parties the opportunity to comment on proposed priorities. However, section 681(d) of the IDEA makes the public comment requirements of the APA inapplicable to the priority in this notice.

Program Authority: 20 U.S.C. 1462 and 1481.

Applicable Regulations: (a) The Education Department General Administrative Regulations (EDGAR) in 34 CFR parts 74, 75, 77, 79, 80, 81, 82, 84, 85, 86, 97, 98, and 99. (b) The regulations for this program in 34 CFR part 304.

II. Award Information

Type of Award: Discretionary grants.

Estimated Available Funds: The Administration has requested $90,626,000 for the Personnel Development to Improve Services and Results for Children with Disabilities program for FY 2007, of which we intend to use an estimated $11,692,000 for the Combined Priority for Personnel Preparation competition. The actual level of funding, if any, depends on final congressional action. However, we are inviting applications to allow enough time to complete the grant process if Congress appropriates funds for this program.

For funding information regarding each of the specific focus areas of the absolute priority, see the chart in this section of this notice.

Estimated Range of Awards: See chart.

Estimated Average Size of Awards: See chart.

Maximum Awards: See chart.

Estimated Number of Awards: See chart.

Project Period: Up to 48 months.

Personnel Development to Improve Services and Results for Children With Disabilities Application Notice for Fiscal Year 2007
CFDA Number and name | Estimated range of awards | Estimated average size of awards | Maximum award (per year) * | Estimated number of awards
84.325K Combined Priority for Personnel Preparation: |
Focus Area a: Training Personnel to Serve Infants, Toddlers, and Pre-school Age Children with Disabilities | $150,000-$200,000 | $175,000 | $200,000 | 13
Focus Area b: Training Personnel to Serve School Age Children with Low Incidence Disabilities | $150,000-$200,000 | $175,000 | $200,000 | 17
Focus Area c: Training Personnel to Provide Related Services, Speech/Language Services, and Adapted Physical Education to Infants, Toddlers, Children and Youth with Disabilities | $150,000-$200,000 | $175,000 | $200,000 | 14
Focus Area d: Training Personnel in Minority Institutions to Serve Infants, Toddlers, Children and Youth with Disabilities | $150,000-$200,000 | $175,000 | $200,000 | 14
* We will reject any application that proposes a budget exceeding the maximum award specified for a single budget period of 12 months. The Assistant Secretary for Special Education and Rehabilitative Services may change the maximum amount through a notice published in the Federal Register.

Note: The Department is not bound by any estimates in this notice.

III. Eligibility Information

1. Eligible Applicants: IHEs.

2. Cost Sharing or Matching: This competition does not involve cost sharing or matching.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.325K.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:Applications Available: August 11, 2006.

Deadline for Transmittal of Applications: October 10, 2006.

Applications for grants under this competition may be submitted electronically using the Grants.gov Apply site (Grants.gov), or in paper format by mail or hand delivery. For information (including dates and times) about how to submit your application electronically, or by mail or hand delivery, please refer to section IV.6. Other Submission Requirements in this notice.

We do not consider an application that does not comply with the deadline requirements.

Deadline for Intergovernmental Review: December 11, 2006.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new governmentwide Grants.gov Apply site in FY 2007. The Combined Priority for Personnel Preparation competition—CFDA Number 84.325K is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for the Combined Priority for Personnel Preparation competition—CFDA Number 84.325K at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.grants.gov/applicants/get_registered.jsp). These steps include (1) Registering your organization, (2) registering yourself as an Authorized Organization Representative (AOR), and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text) or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service:U.S. Department of Education, Application Control Center, Attention: (CFDA Number 84.325K), 400 Maryland Avenue, SW., Washington, DC 20202-4260; or

By mail through a commercial carrier:U.S. Department of Education, Application Control Center—Stop 4260, Attention: (CFDA Number 84.325K), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.325K), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from 34 CFR 75.210 of EDGAR and are listed in the application package.

2. Treating a Priority as Two Separate Competitions: In the past, there have been problems in finding peer reviewers without conflicts of interest for competitions in which many entities throughout the country submit applications. The Standing Panel requirements under IDEA also have placed additional constraints on the availability of reviewers. Therefore, the Department has determined that, for some discretionary competitions, applications may be separated into two or more groups and ranked and selected for funding within the specific group. This procedure will ensure the availability of a much larger group of reviewers without conflicts of interest. It also will increase the quality, independence and fairness of the review process and permit panel members to review applications under discretionary competitions for which they have also submitted applications. However, if the Department decides to select for funding an equal number of applications in each group, this may result in different cut-off points for fundable applications in each group.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. In addition, to satisfy the requirements of the absolute priority in this notice, you must submit annual data on each scholar who receives grant support through your project.

4. Performance Measures: Under the Government Performance and Results Act of 1993 (GPRA), the Department has established a set of performance measures that are designed to yield information on the effectiveness of the Personnel Development program. These measures include: (1) The percentage of projects that incorporate scientifically-or evidence-based practices, (2) the percentage of scholars who exit training programs prior to completion due to poor academic performance, (3) the percentage of degree or certification recipients employed upon program completion who are working in the area(s) for which they were trained, (4) the percentage of degree or certification recipients employed upon program completion who are working in the area(s) for which they were trained and are fully qualified under IDEA; and (5) the percentage of degree/certification recipients who maintain employment in the area(s) for which they are trained for three or more years and are fully qualified under IDEA.

Grantees will be required to collect and report data on grant-supported scholars through the PPD Web site at http://www.oespppd.org (see paragraph (d)(5) under the absolute priority section of this notice).

The Department also has developed long-term measures that are designed to yield information on various aspects of program quality. These measures include: (1) The percentage of scholars completing IDEA-funded training programs who are knowledgeable and skilled in scientifically- or evidence-based practices for infants, toddlers, children and youth with disabilities; and (2) the percentage of low incidence positions that are filled by personnel who are fully qualified under IDEA. Grantees may be asked to participate in assessing and providing information on these long-term aspects of program quality.

VII. Agency Contact

For Further Information Contact: Maryann McDermott, U.S. Department of Education, 400 Maryland Avenue, SW., Potomac Center Plaza, room 4062, Washington, DC 20202-2600. Telephone: (202) 245-7439 or by e-mail: maryann.mcdermott@ed.gov.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 8, 2006.
John H. Hager,
Assistant Secretary for Special Education and Rehabilitative Services.

[FR Doc. E6-13213 Filed 8-10-06; 8:45 am]

BILLING CODE 4000-01-P